DEPARTMENT OF JUSTICE

Office of Justice Programs

Agency Information Collection Activities: Proposed Collection; Comments Requested

ACTION: 60-Day Notice of Information Collection Under Review: Deaths in Custody—series of collections from local jails, State prisons and juvenile.

The Department of Justice (DOJ), Office of Justice Programs, has submitted the following information collection request to the Office of Management and Budget (OMB) for review and approval in accordance with the Paperwork Reduction Act of 1995. The proposed information collection is published to obtain comments from the public and affected agencies. Comments are encouraged and will be accepted for “sixty days” until March 27, 2006 This process is conducted in accordance with 5 CFR 1320.10.

If you have comments, especially on the estimated public burden or associated response time, suggestions, or need a copy of the proposed information collection instrument with instructions or additional information, please contact: Lawrence Greenfeld, Director, Bureau of Justice Statistics, 810 Seventh St., NW., Washington, DC, 20531.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Deaths In Custody Reporting Program

(3) Agency form number, if any, and the applicable component of the Department of Justice sponsoring the collection: Forms: NPS-4 (Quarterly Summary of Inmate Deaths in State Prison), NPS-4A (State Prison Inmate Death Report), NPS-5 (Quarterly Summary of Deaths in State Juvenile Residential Facilities), NPS-5A (State Juvenile Residential Death Report), CJ-9 (Quarterly Report on Inmates Under Jail Jurisdiction), CJ-9A (Annual Summary on Inmates Under Jail Jurisdiction), CJ-10 (Quarterly Report on Inmates in Private and Multi-Jurisdiction Jails), CJ-10A (Annual Summary on Inmates in Private and Multi-Jurisdiction Jails), CJ-11 (Quarterly Summary of Deaths in Law Enforcement Custody) and CJ-11A (Law Enforcement Custodial Death Report). Corrections Statistics Unit, Bureau of Justice Statistics, Office of Justice Programs, United States Department of Justice.

(4) Affected public who will be asked or required to respond, as well as a brief abstract: Primary: Local jail administrators, State prison administrators, and State juvenile correctional administrators. Others: State-level central reporters from each State's criminal justice Statistical Analysis Center (SAC). One reporter from each of the 3,083 local jail jurisdictions in the United States, one reporter from each of the 50 State prison systems, and one reporter from the juvenile correctional authority in each of the 50 States and the District of Columbia is asked to provide information for the following categories: (a) During each reporting quarter, the number of deaths of persons in their custody; (b) As of January 1 and December 31 of each reporting year, the number of male and female inmates in their custody (local jails only); (c) Between January 1 and December 31 of each reporting year, the number of male and female inmates admitted to their custody (local jails only); (d) The name, date of birth, gender, race/ethnic origin, and date of death for each inmate who died in their custody during each reporting quarter; (e) The admission date, legal status, and current offenses for each inmate who died in their custody during the reporting quarter; (f) Whether or not an autopsy was conducted by a medical examiner or coroner to determine the cause of each inmate death that took place in their custody during the reporting quarter; (g) The location and cause of each inmate death that took place in their custody during the reporting quarter; (h) In cases where the cause of death was illness/natural causes (including AIDS), whether or not the cause of each inmate death was the result of a pre-existing medical condition, and whether or not the inmate had been receiving treatment for that medical condition; (i) In cases where the cause of death was accidental injury, suicide, or homicide, when and where the incident causing the inmate's death took place.

To measure the law enforcement deaths BJS asks State-level central reporters (one reporter from each of the 50 States and the District of Columbia) from each State's criminal justice Statistical Analysis Center (SAC) to provide information for the following categories: (a) During each reporting quarter, the number of deaths of persons in the custody of State and local law enforcement during the process of arrest; (b) The deceased's name, date of birth, gender, race/Hispanic origin, and legal status at time of death; (c) The date and location of death, the manner and medical cause of death, and whether an autopsy was performed; (d) The law enforcement agency involved, and the offenses for which the inmate was being charged; (e) In cases of death prior to booking, whether death was the result of a pre-existing medical condition or injuries sustained at the crime or arrest scene, and whether the officer(s) involved used any weapons to cause the death; (f) In cases of death prior to booking, whether the deceased was under restraint in the time leading up to the death, and whether their behavior at the arrest scene included threats or the use of any force against the arresting officers; (g) In cases of death after booking, the time and date of the deceased's entry into the law enforcement booking facility where the death occurred, and the medical and mental condition of the deceased at the time of entry; (h) In cases of accidental, homicide or suicide deaths after booking, who and what were the means of death (e.g., suicide by means of hanging).

The Bureau of Justice Statistics uses this information to publish statistics on deaths in custody. These reports will be made available to the U.S. Congress, Executive Office of the President, practitioners, researchers, students, the media, and others interested in criminal justice and data.

(5) An estimated 3,235 total respondents will submit an estimated 16,455 responses each year to this collection program. The amount of time needed for an average respondent to complete each form is broken down as follows:

Local jails/quarterly (forms CJ-9 and CJ-10)—3,083 respondents (At least 90% of jails nationwide have zero deaths in a given calendar quarter; these respondents will need an average of 5 minutes to respond. For those jurisdictions with a death to report, the average response time will be 30 minutes per death.)

Local jails/annual (forms CJ-9A and CJ-10A)—3,083 respondents (average response time = 15 minutes)

State prisons/quarterly (form NPS-4)—50 respondents (average response time = 5 minutes)

State prisons addendum/quarterly (form NPS-4A)—50 respondents (average response time = 30 minutes per reported death).

State juvenile corrections/quarterly (form NPS-5)—51 respondents (average response time = 5 minutes).

State juvenile corrections addendum/quarterly (NPS-5A)—51 respondents (average response time = 30 minutes per reported death).

State and local law enforcement/quarterly (CJ-11)—51 respondents (average response time = 5 minutes).

State and local law enforcement addendum/quarterly (CJ-11A)—51 respondents (average response time = 60 minutes per reported death).

(6) An estimate of the total public burden (in hours) associated with the collection: The estimated total public burden hours associated with this collection is 4,609 hours.

If additional information is required contact: Brenda E. Dyer, Department Clearance Officer, United States Department of Justice, Justice Management Division, Policy and Planning Staff, Patrick Henry Building, Suite 1600, 601 D Street, NW., Washington, DC 20530.

Dated: January 20, 2006.
Brenda E. Dyer,
Department Clearance Officer, Department of Justice.

[FR Doc. E6-891 Filed 1-24-06; 8:45 am]

BILLING CODE 4410-18-P